DEPARTMENT OF JUSTICE

Office of Justice Programs

[OJP (NIJ) Docket No. 1793]

Special Technical Committee on Color Test Reagents/Kits for Preliminary Identification of Drugs of Abuse

AGENCY: National Institute of Justice, Office of Justice Programs, Justice.

ACTION: Notice.

SUMMARY: The National Institute of Justice (NIJ) is convening a Special Technical Committee (STC) on Drug Color Tests. The purpose of the STC will be to update and revise the minimum performance standard for NIJ Standard-0604.01, Color Test Reagents/Kits for Preliminary Identification of Drugs of Abuse. NIJ intends to use members and affiliates of the Organization of Scientific Area Committees (OSAC) Seized Drug Subcommittee as the members of the STC.

FOR FURTHER INFORMATION CONTACT: Frances Scott, Office of Investigative and Forensic Sciences, National Institute of Justice, 810 7th Street NW, Washington, DC 20531; telephone number: (202) 305-9950; email address: Frances.Scott@ojp.usdoj.gov.

SUPPLEMENTARY INFORMATION: (NIJ) is convening a Special Technical Committee (STC) on Color Drug Tests. The purpose of the STC will be to update and revise the minimum performance standard NIJ Standard-0604.01, Color Test Reagents/Kits for Preliminary Identification of Drugs of Abuse. The NIJ intends to use the members and affiliates of the Organization of Scientific Area Committees (OSAC) Seized Drug Subcommittee and affiliates as the members of the STC.

NIJ develops and publishes voluntary standards that specifically address the needs of forensic laboratories, law enforcement, corrections, and other criminal justice agencies to ensure that testing methods are accurate, precise, and perform according to established minimum performance requirements. NIJ standards are consensus-based and designed to articulate the criminal justice end user community's operational requirements regarding test performance. More information on NIJ standards is available at http://www.nij.gov/standards.

The OSAC Seized Drug Subcommittee members and affiliates, who will comprise the STC for Color Drug Tests, are 25 individual seized drug subject matter experts from federal, state, local, and private forensic laboratories; researchers; accrediting bodies; and other relevant technical or governmental organizations. Individuals have been selected to achieve the best possible balance of knowledge and expertise.

NIJ anticipates that the STC will meet virtually for one day at a time approximately four to five times over the course of approximately 12 months starting sometime in 2021. The remainder of the work will be conducted by telephone and email, and in virtual meetings with smaller subgroups. NIJ anticipates that this standard will be used by forensic laboratory practitioners in the regular performance of their duties.

Authority:34 U.S.C. 10122(c); 6 U.S.C. 161-165.

Jennifer Scherer,
Acting Director and Principal Deputy Director, National Institute of Justice.

[FR Doc. 2021-20605 Filed 9-22-21; 8:45 am]

BILLING CODE 4410-18-P